DEPARTMENT OF THE TREASURY

Bureau of Alcohol, Tobacco and Firearms

[Docket No. 929; ATF O 1130.13]

Delegation Order—Delegation of the Director's Authorities

To: All Bureau Supervisors.

1. Purpose. This order delegates certain authorities of the Director to subordinate ATF officers and prescribes the subordinate ATF officers with whom persons file documents which are not ATF forms.

2. Cancellation. ATF O 1100.96A, Delegation Order—Delegation to the Associate Director (Compliance Operations) of Authorities of the Director in 27 CFR part 18, Volatile Fruit-Flavor Concentrates, dated August 14, 1984, is canceled.

3. Background. Under current regulations, the Director has authority to take final action on matters relating to drawback on taxpaid distilled spirits used in manufacturing nonbeverage products and the production of volatile fruit-flavor concentrate. We have determined that certain of these authorities should, in the interest of efficiency, be delegated to a lower organizational level.

4. Delegations. Under the authority vested in the Director, Bureau of Alcohol, Tobacco and Firearms, by Treasury Order No. 120-1 (formerly 221), dated June 6, 1972, and by 26 CFR 301.7701-9, this ATF order delegates certain authorities to take final action prescribed in 27 CFR parts 17 and 18 to subordinate officials. Also, this ATF order prescribes the subordinate officials with whom applications, notices, and reports required by 27 CFR parts 17 and 18, which are not ATF forms, are filed. The following table identifies the regulatory sections, authorities and documents to be filed, and the authorized ATF officials. The authorities in the table may not be redelegated. An ATF organization chart showing the directorates involved in this delegation order has been attached.

5. Questions. If you have questions about this ATF order, contact the Regulations Division (202-927-8210).

Bradley A. Buckles,
Director.

Regulatory section | Officer(s) authorized to act or receive document
§ 17.3(a) | Chief, Regulations Division. If the alternate method does not affect an ATF approved formula, or import or export recordkeeping, Chief, National Revenue Center (NRC) may act upon the same alternate method that has been approved by the Chief, Regulations Division.
§ 17.3(b) | Chief, Regulations Division, or Chief, NRC.
§ 17.3(c) | Chief, Regulations Division. If the alternate method does not affect an ATF approved formula, or import or export recordkeeping, Chief, National Revenue Center (NRC) may act upon the same alternate method that has been approved by the Chief, Regulations Division.
§ 17.6 | Chief, Regulations Division, Unit Supervisor, NRC, or Chief, Nonbeverage Products Section.
§ 17.54 | Specialist or Clerk, NRC.
§ 17.55 | Inspector, Special Agent, or Specialist.
§ 17.101 | For persons filing in Puerto Rico, Chief, Puerto Rico Operations; otherwise, Unit Supervisor, NRC.
§ 17.107 | For approval of bonds in Puerto Rico, Chief, Puerto Rico Operations; otherwise, Unit Supervisor, NRC.
§ 17.108(c) | Area Supervisor, Chief, Puerto Rico Operations, or Unit Supervisor, NRC.
§ 17.111 | For bonds in Puerto Rico, Chief, Puerto Rico Operations; otherwise, Unit Supervisor, NRC.
§ 17.112 | For bonds in Puerto Rico, Chief, Puerto Rico Operations; otherwise, Unit Supervisor, NRC.
§ 17.113 | For bonds in Puerto Rico, Chief, Puerto Rico Operations; otherwise, Unit Supervisor, NRC.
§ 17.114 | For bonds in Puerto Rico, Chief, Puerto Rico Operations; otherwise, Unit Supervisor, NRC.
§ 17.121(d) | Inspector, Special Agent, Specialist, or Chemist, Alcohol and Tobacco Laboratory.
§ 17.122 | Chemist, Nonbeverage Products Section.
§ 17.125(a) and (b) | For persons filing in Puerto Rico, Chief, Puerto Rico Operations; otherwise, Unit Supervisor, NRC.
§ 17.131 | Chemist, Nonbeverage Products Section.
§ 17.134 | Chemist, Nonbeverage Products Section.
§ 17.141 | For persons filing in Puerto Rico, Chief, Puerto Rico Operations; otherwise, Unit Supervisor, NRC.
§ 17.142(a) | For persons filing in Puerto Rico, Chief, Puerto Rico Operations; otherwise, Unit Supervisor, NRC, with whom a claim is filed, and Section Chief, NRC, to take final action on claims of more than $5,000, or Unit Supervisor, NRC, to take final action on claims of $5,000 or less.
§ 17.143 | For persons filing in Puerto Rico, Chief, Puerto Rico Operations; otherwise, Unit Supervisor, NRC.
§ 17.147(a) | For persons filing in Puerto Rico, Chief, Puerto Rico Operations; otherwise, Unit Supervisor, NRC.
§ 17.161 | Inspector, Special Agent, Specialist, or Chemist, Alcohol and Tobacco Laboratory.
§ 17.166(c) | Director of Industry Operations.
§ 17.167(b) | Area Supervisor or Chief, Puerto Rico Operations.
§ 17.168(a) | For persons filing in Puerto Rico, Chief, Puerto Rico Operations; otherwise, Unit Supervisor, NRC.
§ 17.170 | Director of Industry Operations.
§ 17.171 | Inspector, Special Agent, Specialist, or Chemist, Alcohol and Tobacco Laboratory.
§ 17.182 | Inspector, Special Agent, Specialist, or Chemist, Alcohol and Tobacco Laboratory.
§ 17.183(a) | Area Supervisor or Chief, Puerto Rico Operations, for filing notice and to impose specific conditions for destruction. Inspector, Special Agent, Specialist, or Chemist, Alcohol and Tobacco Laboratory to witness destruction.
§ 17.183(b) | Chemist, Nonbeverage Products Section, to approve proposed material. Director of Industry Operations to approve method of destruction.
§ 18.13 | Chief, Regulations Division.
§ 18.14(a) | Director of Industry Operations.
§ 18.14(b) | Area Supervisor.
§ 18.15 | Inspector, Special Agent, or Specialist.
§ 18.16(a) | Chief, Regulations Branch.
§ 18.17 | Inspector, Special Agent, or Specialist.
§ 18.19 | Inspector, Special Agent, or Specialist.
§ 18.22(b) | Unit Supervisor, NRC.
§ 18.24 | Section Chief, NRC.
§ 18.27(a)(1) | Area Supervisor or Unit Supervisor, NRC.
§ 18.27(a)(2), (3) and (4) | Area Supervisor.
§ 18.39 | Unit Supervisor, NRC.
§ 18.40 | Unit Supervisor, NRC.
§ 18.41 | Area Supervisor.
§ 18.52(b) | Chemist, Nonbeverage Products Section.
§ 18.61(a) and (b) | Inspector, Special Agent, or Specialist.

BILLING CODE 4810-31-P

[FR Doc. 01-23060 Filed 9-13-01; 8:45 am]

BILLING CODE 4810-31-C